DEPARTMENT OF ENERGY

Federal Energy Regulatory Commission

[Docket No. PR02-4-000]

Transok, LLC; Notice of Petition for Rate Approval

November 29, 2001.

Take notice that on November 15, 2001, Transok, LLC (Transok) submitted for filing a revised fuel factor for its Oklahoma Transmission System for Fuel Year 2002 as calculated under the terms of Transok's filed fuel tracker. Transok seeks an effective date of January 1, 2002.

Transok states that it is serving notice of the filing and the revised fuel percentage on all current shippers and on the Oklahoma Corporation Commission.

Pursuant to section 284.123(b)(2), if the Commission does not act within 150 days of the filing date, this rate will be deemed to be fair and equitable and not in excess of an amount which interstate pipelines would be permitted to charge for providing similar transportation service. The Commission may, prior to the expiration of the 150-day period, extend the time for action or institute a proceeding to afford interested parties an opportunity for written comments and for the oral presentations of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before December 14, 2001. This petition for rate approval is on file with the Commission and is available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-30124 Filed 12-4-01; 8:45 am]

BILLING CODE 6717-01-P